DEPARTMENT OF EDUCATION

Notice of Proposed Information Collection Requests

AGENCY: Department of Education.

ACTION: Notice of Proposed Information Collection Requests.

SUMMARY: The IC Clearance Official, Regulatory Information Management Services, Office of Management, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by November 13, 2008.

ADDRESSES: Written comments regarding the emergency review should be addressed to the Office of Information and Regulatory Affairs, Attention: Sharon Mar, Desk Officer, Department of Education, Office of Management and Budget; 725 17th Street, NW., Room 10222, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: October 31, 2008.
Angela C. Arrington,
IC Clearance Official, Regulatory Information Management Services, Office of Management, Office of Postsecondary Education.

Type of Review: New.

Title: Higher Education Disaster Relief, Pre-Application Information Form.

Abstract: The Consolidated Security, Disaster Assistance, and Continuing Appropriations Act, 2009 (Pub. L. 110-329) provides $15 million in awards to institutions of higher education located in areas affected by hurricanes, floods, and other natural disasters occurring during 2008 for which the President declared a major disaster under Title IV of the Robert T. Stafford Disaster Relief and Emergency Assistance Act of 1974. Emergency clearance is requested for the Pre-Application form, which is needed to collect information to determine the size of institutional awards under the Higher Education Disaster Relief program. Congress expects awards to be made within 60 days of the enactment of Public Law 110-329. The law was enacted September 30, 2008. Refer to Status of Appropriations Bills at http://thomas.loc.gov/home/approp/app09.html.

Additional Information: The U.S. Department of Education (the Department) requests that OMB grant an emergency clearance by November 13, 2008 for the application package for the FY 2009 Higher Education Disaster Relief program. On September 30, 2008 in the Consolidated Security, Disaster Assistance, and Continuing Appropriations Act (2009), Congress provided $15 million for awards to institutions of higher education located in areas affected by hurricanes, floods, or other natural disasters occurring during 2008, for which the President declared a major disaster under title IV of the Robert T. Stafford Disaster Relief and Emergency Assistance Act of 1974. The law provides that the Department make awards within 60 days of enactment, or by November 30, 2008.

The Department intends to follow the same procedures used in FY 2006 and FY 2007 to allocate funds in the Hurricane Education Recovery Awards grant program. The proposed information collection for the 2009 Higher Education Disaster Relief program is nearly identical to that approved in 2006 and 2007, and would include the following quantitative measures:

• Revenue lost as a result of natural disasters;

• Expenses already incurred by the institution in remediation of the effects of 2008 natural disasters;

• Estimated construction costs to repair or replace campus buildings damaged by the natural disaster; and the

• Estimated amount to be reimbursed by insurance or other Federal agency, foundation or charitable outlays for disaster relief.

The Department will publish a separate Draft Closing date notice in the Federal Register announcing the application package. A Pre-Application Information Form will be made available for download on the Department's Web site, requesting that applicants e-mail responses to a special Department mailbox (HEDR@ed.gov) for processing. Institutional allotments from the $15 million appropriation will be based on these responses. Once notified of their allotments, applicants will submit additional information through Grants.gov using already approved standard forms. Information specific to each registered Grants.gov user, including all postsecondary institutions, is already available in the Grants.gov system.

Frequency: One time.

Affected Public: Businesses or other for-profit; Not-for-profit institutions.

Reporting and Recordkeeping Hour Burden:

Responses: 50.

Burden Hours: 75.

Requests for copies of the proposed information collection request may be accessed from http://edicsweb.ed.gov, by selecting the “Browse Pending Collections” link and by clicking on link number 3896. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-26415 Filed 11-4-08; 8:45 am]

BILLING CODE 4000-01-P